DEPARTMENT OF HOMELAND SECURITY

Coast Guard

[Docket No. USCG-2010-0164]

National Boating Safety Advisory Council

AGENCY: Coast Guard, DHS.

ACTION: Notice of meeting.

SUMMARY: The National Boating Safety Advisory Council (NBSAC) and its subcommittees will meet on January 14-16, 2011, in Orlando, Florida. NBSAC discusses issues relating to recreational boating safety. The meetings will be open to the public.

DATES: NBSAC will meet Friday, January 14, 2011, from 9 a.m. to 12:15 p.m. and Sunday, January 16, 2011, from 9 a.m. to 12 p.m. The Boats and Associated Equipment Subcommittee will meet on Friday, January 14, 2011 from 1:45 p.m. to 5 p.m. The Prevention through People Subcommittee will meet on Saturday, January 15, 2011, from 9 a.m. to 12 p.m., and the Recreational Boating Safety Strategic Planning Subcommittee will meet on Saturday, January 15, 2011, from 1:30 p.m. to 5:30 p.m. Please note that the meetings may conclude early if NBSAC has completed all business.

All written materials, comments, and requests to make oral presentations at the meetings should reach Mr. Jeff Ludwig, Assistant Designated Federal Officer (ADFO) for NBSAC by December 30, 2010, via one of the methods described in ADDRESSES. Requests to have a copy of your material distributed to each member of the Council prior to the meeting should reach Mr. Ludwig by December 30, 2010.

ADDRESSES: The meetings will be held in the San Juan Ballroom of the Embassy Suites Orlando—Downtown, 191 East Pine Street, Orlando, FL 32801.

Please send written material, comments, and requests to make oral presentations to Mr. Jeff Ludwig, ADFO for NBSAC, by one of the submission methods described below. All materials, comments, and requests must be identified by docket number USCG-2010-0164.

Submission Methods: Please use only one of the following methods:

• Federal eRulemaking Portal: http://www.regulations.gov. Follow the instructions for submitting comments.

• E-mail: jeffrey.a.ludwig@uscg.mil. Include the docket number in the subject line of the message.

• Fax: (202) 372-1932.

• Mail: Mr. Jeff Ludwig, COMDT (CG-54221), 2100 2nd Street, SW., Stop 7581, Washington, DC 20593.

Instructions: All submissions received must include the words “U.S. Coast Guard” and docket number USCG-2010-0164. All submissions received will be posted without alteration at http://www.regulations.gov, including any personal information provided. Anyone can search the electronic form of comments received into any of our dockets by the name of the individual submitting the comment (or signing the comment, if submitted on behalf of an association, business, labor union, etc.) You may review a Privacy Act notice regarding our public dockets in the January 17, 2008 issue of the Federal Register (73 FR 3316).

Docket: For access to the docket to read background documents or submissions received by the NBSAC, go to http://www.regulations.gov.

FOR FURTHER INFORMATION CONTACT: Mr. Jeff Ludwig, ADFO for NBSAC, COMDT (CG-54221), 2100 2nd Street, SW., Stop 7581, Washington, DC 20593; (202) 372-1061; jeffrey.a.ludwig@uscg.mil.

SUPPLEMENTARY INFORMATION: Notice of this meeting is given under the Federal Advisory Committee Act (FACA), 5 U.S.C. App. (Pub. L. 92-463). Congress established NBSAC in the Federal Boat Safety Act of 1971 (Pub. L. 92-75). NBSAC currently operates under the authority of 46 U.S.C. 13110, which requires the Secretary of Homeland Security, and the Commandant of the Coast Guard by delegation, to consult with NBSAC in prescribing regulations for recreational vessels and associated equipment, and on other major boating safety matters. See 46 U.S.C. 4302(c) and 13110(c).

Tentative Agendas of Meetings

The agenda for the January 14, 2011 NBSAC meeting is as follows:

(1) Opening Remarks—Mr. James P. Muldoon, NBSAC Chairman.

(2) Receipt and discussion of the following reports:

(a) Chief, Office of Auxiliary and Boating Safety Update on NBSAC Resolutions and Recreational Boating Safety Program report.

(b) Executive Secretary's report.

(c) Towing Safety Advisory Committee (TSAC) Liaison's report.

(d) Navigation Safety Advisory Council (NAVSAC) Liaison's report.

(e) National Association of State Boating Law Administrators (NASBLA) report.

(f) Boating Industry Risk Management Council (BIRMC) Liaison's report.

(3) Boats and Associated Equipment Subcommittee meeting to discuss current regulatory projects, grants, contracts, and new issues affecting boats and associated equipment.

Saturday, January 15, 2011:

(4) Prevention through People Subcommittee meeting to discuss current regulatory projects, grants, contracts, and new issues affecting the prevention of boating accidents through outreach and education of boaters.

(5) Recreational Boating Safety Strategic Planning Subcommittee meeting to discuss current status of the strategic planning process and any new issues or factors that could impact, or contribute to, the development of the strategic plan for the recreational boating safety program.

Sunday, January 16, 2011:

(6) Recreational Boating Safety Strategic Planning Subcommittee meeting (Cont.).

(7) Receipt and discussion of the following reports:

(a) Prevention through People Subcommittee report.

(b) Boats and Associated Equipment Subcommittee report.

(c) Recreational Boating Safety Strategic Planning Subcommittee report.

(8) Closing remarks.

A more detailed agenda can be found at: http://homeport.uscg.mil/NBSAC, after January 5, 2011.

Procedural

These meetings are open to the public. Please note that the meeting may conclude early if all business is finished. Members of the public may make oral presentations during the meetings concerning the matters being discussed. Public comments will be limited to three minutes per speaker. If you would like to make an oral presentation at the meetings, please notify Mr. Jeff Ludwig as described in the ADDRESSES section above by December 30, 2010. If you would like a copy of your material distributed to each member of the Council in advance of the meetings, please submit thirty (30) copies to Mr. Jeff Ludwig as described in the ADDRESSES section above by December 30, 2010.

Information on Services for Individuals With Disabilities

For information on facilities or services for individuals with disabilities or to request special assistance at the meeting, contact Mr. Jeff Ludwig as described in the ADDRESSES section above as soon as possible.

Dated: December 16, 2010.
K.S. Cook,
Rear Admiral, U.S. Coast Guard, Director of Prevention Policy.

[FR Doc. 2010-32058 Filed 12-21-10; 8:45 am]

BILLING CODE 9110-04-P